ENVIRONMENTAL PROTECTION AGENCY

[FRL-9535-02-OA]

Local Government Advisory Committee (LGAC) and Small Communities Advisory Subcommittee (SCAS) Meeting

AGENCY: Environmental Protection Agency (EPA).

ACTION: Notification of public meeting.

SUMMARY: Pursuant to the Federal Advisory Committee Act (FACA), EPA herby provides notice of a meeting for the Local Government Advisory Committee (LGAC) and its Small Communities Advisory Subcommittee (SCAS) on the date and time described below. This meeting will be open to the public. For information on public attendance and participation, please see the registration information under SUPPLEMENTARY INFORMATION.

DATES: The LGAC will have a hybrid virtual/in-person meeting June 23rd, 2022, starting at 8:30 a.m. through 3:00 p.m. Eastern Daylight Time. The public comment period will be 2:15-2:30 p.m.

The SCAS will have a hybrid virtual/in-person meeting June 24th, 2022, starting at 8:30 a.m. through 12:00 p.m. Eastern Daylight Time. The public comment period will be 9:45 a.m.-9:55 a.m.

The LGAC and SCAS will also have a joint hybrid virtual/in-person meeting June 24th, 2022, starting at 10:30 a.m. through 12:00 p.m. Eastern Daylight Time.

FOR FURTHER INFORMATION CONTACT: Paige Lieberman, Designated Federal Officer (DFO), at LGAC@epa.gov or 202-564-9957

Information on Accessibility: For information on access or services for individuals requiring accessibility accommodations, please contact Paige Lieberman by email at LGAC@epa.gov. To request accommodation, please do so five (5) business days prior to the meeting, to give EPA as much time as possible to process your request.

SUPPLEMENTARY INFORMATION: These meetings will be held at EPA's Offices in Washington, DC, at 1200 Constitution Ave. NW. Virtual participation via Zoom will also be available. The EPA has charged the LGAC and SCAS with the following questions, which will be discussed at these meetings. Drafts of the recommendations will be available prior to the meeting for all registered attendees. The joint meeting of the SCAS and LGAC on June 24 will include a panel discussion on technical assistance with several nongovernmental organizations.

Current Charge Questions for Local Government Advisory Committee (LGAC)

1. The Bipartisan Infrastructure Law is delivering more than $50 billion to EPA to improve our nation's drinking water, wastewater, and stormwater infrastructure. As EPA works to implement this law, the LGAC is providing input on:

• Are there tools, resources, or technical assistance that EPA can provide to help local governments access BIL funding to upgrade their water and wastewater infrastructure?

• How can EPA work with the LGAC to educate, engage, and celebrate local successes from BIL implementation?

2. As EPA implements the Bipartisan Infrastructure Law, how can we do so in a way that supports the Administration's priorities of tackling the climate crisis?

• Is there specific technical assistance that EPA should offer local governments to ensure they plan for, develop and build infrastructure that supports multiple community goals, including improving environmental and economic outcomes, supporting equity and environmental justice, and increasing communities' abilities to create climate resilience?

3. In October 2021, EPA announced a PFAS Strategic Roadmap, which laid out a whole-of-agency approach to addressing PFAS. This Roadmap includes several regulatory and policy actions regarding PFAS contamination. Given that these processes can take several years, how can EPA support local governments to address PFAS contamination in the interim?

4. How can EPA meet the needs and environmental priorities of overburdened communities while also strengthening local government capacity to provide ongoing environmental protections in partnership with the states and EPA?

Current Charge Questions for Small Communities Advisory Subcommittee (SCAS)

1. As EPA works to implement the BIL, how can the Agency best:

• Support clean and sustainable air, water, and land priorities for small and rural communities.

• Support capacity needs/advancement for small and rural communities.

• Ensure long-lasting communication between EPA and local officials from small and rural communities.

• Ensure small communities are positioned to benefit from this generational investment in environmental infrastructure.

Registration: All interested persons are invited to attend and participate, either in person or virtually. The LGAC will hear comments from the public from 2:15-2:30 p.m. (EDT) on June 23rd. The SCAS will hear comments from the public 9:45-9:55 a.m. (EDT) on June 24th. Individuals or organizations wishing to address the Committee or Subcommittee will be allowed a maximum of five (5) minutes to present their point of view. Also, written comments should be submitted electronically to LGAC@epa.gov for the LGAC and SCAS. Please contact the DFO at the email listed under FOR FURTHER INFORMATION CONTACT to schedule a time on the agenda by June 16, 2022. Time will be allotted on a first-come first-served basis, and the total period for comments may be extended if the number of requests for appearances requires it.

The agenda and other supportive meeting materials will be available online at https://www.epa.gov/ocir/local-government-advisory-committee-lgac and can be obtained by written request to the DFO. In the event of cancellation for unforeseen circumstances, please contact the DFO or check the website above for reschedule information.

All in-person meeting attendees must comply with current Agency COVID-19 protocols. This information will be shared with all registered attendees prior to the meeting.

Dated: May 25, 2022.
Jack Bowles,
Director, State and Local Relations, Office of Congressional and Intergovernmental Relations.

[FR Doc. 2022-11705 Filed 5-31-22; 8:45 am]

BILLING CODE 6560-50-P